DEPARTMENT OF THE INTERIOR

Fish and Wildlife Service

[FWS-R9-R-2010-N023; 93261-99CS-0000-4A]

Information Collection Sent to the Office of Management and Budget (OMB) for Approval; Survey of National Wildlife Refuge Visitors

AGENCY: Fish and Wildlife Service, Interior.

ACTION: Notice; request for comments.

SUMMARY: We (Fish and Wildlife Service) have sent an Information Collection Request (ICR) to OMB for review and approval. The ICR, which is summarized below, describes the nature of the collection and the estimated burden and cost. We may not conduct or sponsor and a person is not required to respond to a collection of information unless it displays a currently valid OMB control number.

DATES: You must send comments on or before March 4, 2010.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-NEW. This is a new collection.

Title: Survey of National Wildlife Refuge Visitors.

Service Form Number(s): None.

Type of Request: New.

Affected Public: Visitors to national wildlife refuges.

Respondent's Obligation: Voluntary.

Frequency of Collection: One time.

Activity | Number of annual respondents | Number of annual responses | Completion time per response | Annual burden hours
Initial Contact Onsite | 12,500 | 12,500 | 2 minutes | 417
Visitor Survey | 10,000 | 10,000 | 25 minutes | 4,167
Nonresponse Bias Check Survey | 750 | 750 | 5 minutes | 63
Totals | 23,250 | 23,250 |  | 4,647

Abstract: We have contracted with the U.S. Geological Survey (USGS) to conduct a survey of national wildlife refuge visitors so that we can better understand their recreational, educational, and information experiences. The Policy Analysis and Science Assistance Branch of the USGS will conduct the survey onsite at approximately 75 national wildlife refuges nationwide. Respondents will have the option to return the survey by mail or to complete it online.

We will use this survey to measure visitor satisfaction with current visitor services and facilities and their desire for future services and facilities. Information from this survey will provide refuge managers, planners, and visitor services professionals with scientifically sound data that can be used to:

• Prepare conservation planning documents,

• Improve the design of visitor facilities,

• Tailor visitor services and facilities to match visitor interests and needs,

• Better protect refuge resources by combining this data with biological data, and

• Understand the economic impact of visitors to the local community.

Additionally, this survey can target public access and transportation planning issues related to wildlife-oriented recreational opportunities such as automobile tour routes, trails, parking lots, and roads.

Comments: On February 3, 2009, we published in the Federal Register (74 FR 5940) a notice of our intent to request that OMB approve this information collection. In that notice, we solicited comments for 60 days, ending on April 6, 2009. We received three comments and addressed them as follows:

Comment: One commenter requested that the survey include questions on:

• Whether the visitor is a consumptive or nonconsumptive wildlife user,

• What activities visitors do on national wildlife refuges,

• Whether or not visitors are aware that hunting and trapping are allowed on national wildlife refuges,

• Appropriateness of allowing sport hunting and trapping on national wildlife refuges, and

• Compatibility of sport hunting and trapping to the purpose of national wildlife refuges.

Response: The survey contains questions that directly address the first two issues. Measuring public understanding or perceptions about the appropriateness of hunting on national wildlife refuges is not an objective of this study. However, the survey asks visitors to rate the importance of and their satisfaction with a list of uses and services provided on refuges, including hunting. The survey also provides an opportunity for visitors to express their opinions or concerns concerning national wildlife refuge policies (such as hunting and trapping on refuges).

Comment: The commenter stated that we have conducted this survey every 5 years and that is enough. The commenter also stated opposition to hunting.

Response: We believe the commenter is referring to the National Survey of Fishing, Hunting and Wildlife-Associated Recreation. That survey is of the general public and asks questions about activities on all types of lands (Federal, State, local, and private). The proposed survey is of visitors to national wildlife refuges only. Responses to questions on the proposed survey will help us better manage national wildlife refuges.

Comment: We received a request for a copy of the survey instrument and information on sampling frames.

Response: The USGS provided a copy of the draft survey instrument and a description of the sampling frames.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: January 26, 2010
Hope Grey,
Information Collection Clearance Officer, Fish and Wildlife Service.

FR Doc. 2010-2165 Filed 2-1-10; 8:45 am

BILLING CODE 4310-55-S